DEPARTMENT OF COMMERCE

Foreign-Trade Zones Board

[B-64-2016]

Foreign-Trade Zone (FTZ) 21—Dorchester County, South Carolina, Authorization of Limited Production Activity, Volvo Car US Operations, Inc., (Motor Vehicles and Related Parts), Ridgeville, South Carolina

On September 9, 2016, Volvo Car US Operations, Inc. (Volvo) submitted a notification of proposed production activity to the Foreign-Trade Zones (FTZ) Board for its facility within FTZ 21, in Ridgeville, South Carolina.

The notification was processed in accordance with the regulations of the FTZ Board (15 CFR part 400), including notice in the Federal Register inviting public comment (81 FR 66257-66259, September 27, 2016). The FTZ Board has determined that further review of part of the proposed activity is warranted at this time. The production activity described in the notification is authorized on a limited basis, subject to the FTZ Act and the Board's regulations, including Section 400.14, and further subject to a restriction requiring that the following foreign-status materials/components be admitted to the subzone in privileged foreign status (19 CFR 146.41): upholstery leather (HTSUS 4107.99); leather cases/bags (HTSUS 4202.11); felt strips (HTSUS 5602.10); manmade fiber felt shapes (HTSUS 5602.90); felt damping strips (HTSUS 5602.90); netting of twines or ropes (HTSUS 5608.19); manmade fiber twine/cordage/rope nettings (HTSUS 5608.90); nylon carpets (HTSUS 5703.20); tufted other manmade textile carpets/mats (HTSUS 5703.30); felt carpets (HTSUS 5704.90); manmade fiber tufted and non-tufted carpets/mats (HTSUS 5705.00); velcro straps (HTSUS 5806.10); vent pads of polyester fleece (HTSUS 5911.90); textile child seat protector covers (HTSUS 8708.99); textile sun shade curtains (HTSUS 8708.99); manmade fiber cargo nets (HTSUS 8708.99); textile seats/arm rests/head rests/seat belts and related parts (HTSUS 9401.90 and HTSUS 9403.90); and, textile child safety seat covers (HTSUS 9401.90).

Dated: January 9, 2017.
Andrew McGilvray,
Executive Secretary.

[FR Doc. 2017-00751 Filed 1-12-17; 8:45 am]

BILLING CODE 3510-DS-P